DEPARTMENT OF TRANSPORTATION

Federal Aviation Administration

14 CFR Part 39

[Docket No. 2001-NE-20-AD; Amendment 39-12461; AD 2002-02-13]

RIN 2120-AA64

Airworthiness Directives; CFM International, S.A. CFM56-5 Series Turbofan Engines

AGENCY: Federal Aviation Administration, DOT.

ACTION: Final rule.

SUMMARY: This amendment adopts a new airworthiness directive (AD), that is applicable to CFM International, S.A. (CFMI) CFM56-5 series turbofan engines. This amendment requires replacement of the magnetic drain plug on certain part number (P/N) air turbine engine starters manufactured by Honeywell Engines & Systems. This amendment is prompted by three instances of uncontained air turbine engine starter failures, resulting in cowl damage. The actions specified by this AD are intended to prevent uncontained failure of the starter and possible damage to the airplane.

DATES: Effective date March 21, 2002. The incorporation by reference of certain publications listed in the regulations is approved by the Director of the Federal Register as of March 21, 2002.

ADDRESSES: The service information referenced in this AD may be obtained from Honeywell Engines & Systems, Technical Publications Department, 111 South 34th Street, Phoenix, Arizona 85034; telephone (602) 365-5535, fax (602) 365-5577. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: James Rosa, Aerospace Engineer, Engine Certification Office, FAA, Engine and Propeller Directorate, 12 New England Executive Park, Burlington, MA 01803-5299; telephone (781) 238-7152, fax (781) 238-7199.

SUPPLEMENTARY INFORMATION: A proposal to amend part 39 of the Federal Aviation Regulations (14 CFR part 39) to include an AD that is applicable to CMFI CFM56-5 series turbofan engines was published in the Federal Register on October 19, 2001 (66 FR 53131). That action proposed to require replacement of the magnetic drain plug on certain ­P/N air turbine engine starters manufactured by Honeywell Engines & Systems, in accordance with Honeywell Service Bulletin 3505582-80-1706, dated March 8, 2000.

Comments

Interested persons have been afforded an opportunity to participate in the making of this amendment. Due consideration has been given to the one comment received.

The commenter states that the new drain plug P/N is incorrect, the replaced packing P/N is incorrect, and the new packing P/N is incorrect as called out in paragraph (a) of the NPRM.

The FAA agrees. Paragraph (a) is now corrected to reflect new drain plug P/N 572-8510-9152, replaced packing P/N S9413-555, and new packing P/N S3225-905.

After careful review of the available data, including the comment noted above, the FAA has determined that air safety and the public interest require the adoption of the rule with the changes described previously. The FAA has determined that these changes will neither increase the economic burden on any operator nor increase the scope of the AD.

Economic Analysis

The FAA estimates that about 512 engines installed on airplanes of U.S. registry would be affected by this AD. The FAA also estimates that it would take approximately 0.1 work hours per engine to accomplish the actions, and that the average labor rate is $60 per work hour. Required parts would cost approximately $787 per engine. Based on these figures, the total cost effect of this AD on U.S. operators is estimated to be $406,016. CFMI may provide parts at no cost, which would significantly reduce this figure.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-02-13 CFM International: Amendment 39-12461. Docket No. 2001-NE-20-AD.

Applicability: This airworthiness directive (AD) is applicable to CFM International, S.A. CFM56-5 series turbofan engines with Honeywell Engines & Systems air turbine engine starters, part numbers (P/N's) 3505582-2, 3505582-3, 3505582-4, 3505582-12, 3505582-14, 3505582-15, 3505582-22, and 3505582-23 installed. These engines are installed on, but not limited to Airbus Industries A318, A319, A320, A321 and A340 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required within 500 cycles-in-service after the effective date of this AD, unless already done.

To prevent uncontained failure of the starter due to loss of oil and possible damage to the airplane, do the following:

(a) Replace the magnetic drain plug, P/N 572-510-9004, with a new redesigned magnetic drain plug P/N 572-8510-9152; replace the packing P/N S9413-555, with packing P/N S3225-905, and remark the air turbine engine starter in accordance with paragraphs 2.A. through 2.C. of the Accomplishment Instructions of Honeywell Service Bulletin 3505582-80-1706, dated March 8, 2000.

(b) Replenish the air turbine starter.

Alternative Methods of Compliance

(c) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the airplane to a location where the requirements of this AD can be done.

Documents That Have Been Incorporated by Reference

(e) The inspection must be done in accordance with Honeywell Service Bulletin 3505582-80-1706, dated March 8, 2000. This incorporation by reference was approved by the Director of the Federal Register in accordance with 5 U.S.C. 552(a) and 1 CFR part 51. Copies may be obtained from Honeywell Engines & Systems, Technical Publications Department, 111 South 34th Street, Phoenix, Arizona 85034; telephone (602) 365-5535, fax (602) 365-5577. Copies may be inspected, by appointment, at the FAA, New England Region, Office of the Regional Counsel, 12 New England Executive Park, Burlington, MA; or at the Office of the Federal Register, 800 North Capitol Street, NW., suite 700, Washington, DC.

Effective Date

(f) This amendment becomes effective on March 21, 2002.

Issued in Burlington, Massachusetts, on February 1, 2002.
Jay J. Pardee,
Manager, Engine and Propeller Directorate, Aircraft Certification Service.

[FR Doc. 02-3161 Filed 2-13-02; 8:45 am]

BILLING CODE 4910-13-U